DEPARTMENT OF HOMELAND SECURITY

U.S. Citizenship and Immigration Services

[OMB Control Number 1615-NEW]

Agency Information Collection Activities: AABB Accredited Laboratory Testing; Rapid DNA Prototype Accelerated Nuclear DNA Equipment (ANDE) by NetBio; Rapid DNA Prototype RapidHIT200 by IntegenX; Form G-1294, DNA Collection Consent Form (Laboratory Test) and Form G-1295, DNA Collection Consent Form (Rapid Test); New Collection

AGENCY: U.S. Citizenship and Immigration Services, Department of Homeland Security.

ACTION: 30-Day notice.

SUMMARY: The Department of Homeland Security (DHS), U.S. Citizenship and Immigration Services (USCIS) will be submitting the following information collection request to the Office of Management and Budget (OMB) for review and clearance in accordance with the Paperwork Reduction Act of 1995. The information collection notice was previously published in the Federal Register on July 8, 2014, at 79 FR 38558, allowing for a 60-day public comment period. USCIS did not receive any comments in connection with the 60-day notice.

DATES: The purpose of this notice is to allow an additional 30 days for public comments. Comments are encouraged and will be accepted until December 14, 2015. This process is conducted in accordance with 5 CFR 1320.10.

ADDRESSES: Written comments and/or suggestions regarding the item(s) contained in this notice, especially regarding the estimated public burden and associated response time, must be directed to the OMB USCIS Desk Officer via email at oira_submission@omb.eop.gov. Comments may also be submitted via fax at (202) 395-5806 (This is not a toll-free number). All submissions received must include the agency name and the OMB Control Number 1615-NEW.

You may wish to consider limiting the amount of personal information that you provide in any voluntary submission you make. For additional information please read the Privacy Act notice that is available via the link in the footer of http://www.regulations.gov.

FOR FURTHER INFORMATION CONTACT: USCIS, Office of Policy and Strategy, Regulatory Coordination Division, Laura Dawkins, Chief, 20 Massachusetts Avenue NW., Washington, DC 20529-2140, Telephone number (202) 272-8377 (This is not a toll-free number. Comments are not accepted via telephone message). Please note contact information provided here is solely for questions regarding this notice. It is not for individual case status inquiries. Applicants seeking information about the status of their individual cases can check Case Status Online, available at the USCIS Web site at http://www.uscis.gov, or call the USCIS National Customer Service Center at (800) 375-5283; TTY (800) 767-1833.

SUPPLEMENTARY INFORMATION:

Comments

You may access the information collection instrument with instructions, or additional information by visiting the Federal eRulemaking Portal site at: http://www.regulations.gov and enter USCIS-2014 -0002 in the search box. Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection Request: New Collection.

(2) Title of the Form/Collection: AABB accredited laboratory testing; Rapid DNA prototype Accelerated Nuclear DNA Equipment (ANDE) by NetBio; Rapid DNA prototype RapidHIT200 by IntegenX.

(3) Agency form number, if any, and the applicable component of the DHS sponsoring the collection: G-1294, G-1295; USCIS.

(4) Affected public who will be asked or required to respond, as well as a brief abstract: Primary: Individuals or households. Overseas applicants for refugee status filing through the USCIS Form I-590 (OMB Control Number 1615-0068) that have a spouse and/or child(ren) must meet all requirements of Immigration and Nationality Act § 207(c)(2) and have the necessary burden of proof to establish the relationship(s). In the case of a parent-child relationship, there is often a degree of difficulty in establishing this for refugee populations that often lack reliable documentation. USCIS is seeking to allow I-590 applicants to provide DNA testing results through an AABB accredited laboratory, and in coordination with the USCIS overseas office, to provide effective and credible evidence of this parent-child relationship. USCIS is also seeking to conduct simultaneous Rapid DNA testing as a pilot to make a determination if the Rapid DNA machines provide a valid alternative to traditional DNA testing. USCIS will be collecting samples for traditional DNA testing through an AABB accredited laboratory in conjunction with the Rapid DNA pilot to test the validity of the results obtained during the pilot. The collection of DNA, regardless of process employed, is strictly voluntary and refusal to provide a sample does not adversely impact an applicant's I-590 application.

(5) An estimate of the total number of respondents and the amount of time estimated for an average respondent to respond: 60 respondents for the Applicant Initiated AABB accredited lab DNA Testing with an estimate hour burden of 6 hours per response. 250 respondents for the standard DNA process (form G-1294) with an estimate of .217 hour burden per response. 250 respondents for the Rapid DNA process (Form G-1295) with an estimate of .217 hour burden per response.

(6) An estimate of the total public burden (in hours) associated with the collection: The total estimated hour burden per response is 470 hours.

(7) An estimate of the total public burden (in cost) associated with the collection: The total estimated cost to the public is $14,700.

Dated: November 5, 2015.
Laura Dawkins,
Chief, Regulatory Coordination Division, Office of Policy and Strategy, U.S. Citizenship and Immigration Services, Department of Homeland Security.

[FR Doc. 2015-28701 Filed 11-10-15; 8:45 am]

BILLING CODE 9111-97-P